DEPARTMENT OF HEALTH AND HUMAN SERVICES

Centers for Disease Control and Prevention

Advisory Board on Radiation and Worker Health (ABRWH or Advisory Board), National Institute for Occupational Safety and Health (NIOSH): Notice of Charter Re-establishment

Pursuant to Executive Order 13708 and the Federal Advisory Committee Act (Pub. L. 92-463) of October 6, 1972, the Director, Centers for Disease Control and Prevention (CDC) announces the re-establishment of the Advisory Board on Radiation and Worker Health, Department of Health and Human Services, extending through September 30, 2017.

Contact Person for More Information: Theodore Katz, Designated Federal Officer, NIOSH, CDC, 1600 Clifton Road NE., MS E-20, Atlanta, Georgia 30329-4027, telephone (513) 533-6800, toll free: 1-800-CDC-INFO, email: dcas@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-08517 Filed 4-12-16; 8:45 am]

BILLING CODE 4163-18-P